DEPARTMENT OF THE INTERIOR

Bureau of Land Management

[CA-180-1220-PH]

Notice of Emergency Closure of Public Lands in Tuolumne County, CA

SUMMARY: Notice is hereby given that approximately 80 acres of public lands have been temporarily closed to all public uses that could result in death or injury to nearby residents or private property damage through the use of firearms, ignition of a wildfire, and/or damaging or destroying vegetation and associated wildlife habitat. Prohibited activities include, but are not limited to the use of firearms for target shooting or hunting, the operation of motorized vehicles or other internal combustion engines in any capacity, camping, or ignition of any open fires. This closure is made under the authority of 43 CFR 8364.1 Closure and Restriction Orders.

The closed area is in the vicinity of Lake Don Pedro in Tuolumne County, and is within T2S, R15E, Section 31, NE ¼, NE ¼, and Section 32, NW ¼, NW ¼, Mount Diablo Baseline and Meridian. All entry will be selectively restricted during this emergency closure to protect persons, property, public lands, and natural resources.

Closure signs will be posted at main entry points to this area, and a fence will be constructed to exclude vehicle entry.

DATES: The emergency closure will remain in effect until the Folsom Field Office completes a Resource Management Plan in 2007 which will establish permanent rules for the public use of the property.

ADDRESSES: Maps of the closure area may be obtained from the Folsom Field Office, 63 Natoma Street, Folsom, California, 95630. Phone (916) 985-4474.

FOR FURTHER INFORMATION CONTACT: Deane Swickard, Folsom Field Office Manager, (916) 985-4474.

SUPPLEMENTARY INFORMATION: The approximately 80 acres of public land known locally as the Salambo Mine has been receiving inappropriate use that constitutes chronic abuse of the public lands, including unregulated and indiscriminate firearms use, uncontrolled off-road vehicle use, noisy parties with large bonfires and underage drinking that continue well into the evening hours, trash dumping, and destruction of native vegetation and associated wildlife habitat. Neighbors in a near-by residential area consider these public lands, because of how they are used, a public nuisance, as does the Don Pedro Recreation Agency, a subdivision of the Turlock Irrigation District which manages Lake Don Pedro for public recreation.

These public lands will remain open during daylight hours to access by other than motorized vehicle, and to uses that do not involve firearms.

Exemptions: Persons who are exempt from these rules include: Federal, State, or local officers or employees in the scope of their duties; and members of any organized rescue or fire-fighting force in performance of an official duty.

Penalties: Any person who fails to comply with the provisions of this closure order may be subject to the penalties provided in 43 CFR 8360.0-7, which include a fine not to exceed $1,000 and/or imprisonment not to exceed 12 months.

Dated: January 5, 2006.
D.K. Swickard,
Folsom Field Manager.

[FR Doc. E6-3246 Filed 3-7-06; 8:45 am]

BILLING CODE 4310-$$-P